DEPARTMENT OF ENERGY

Federal Energy Regulatory Commission

[Docket No. IN09-9-000]

Seminole Energy Services, LLC; Seminole Gas Company, LLC; Seminole High Plains, LLC; Lakeshore Energy Services, LLC; Vanguard Energy Services, LLC; Notice of Designation of Commission Staff as Non-Decisional

January 15, 2009.

With respect to an order issued by the Commission today in the above-captioned docket, with the exceptions noted below, the staff of the Office of Enforcement's Division of Investigations (DOI) and Jerome Pederson, Acting Deputy Director, Office of Enforcement, are designated as non-decisional in deliberations by the Commission in this docket. Accordingly, pursuant to 18 CFR 385.2202 (2008), they will not serve as advisors to the Commission or take part in the Commission's review of any offer of settlement. Likewise, as non-decisional staff, pursuant to 18 CFR 385.2201 (2008), they are prohibited from communicating with advisory staff concerning any deliberations in this docket. Exceptions in DOI to this designation are: Robert E. Pease, Todd Mullins, Suzanne McNamara, Tegan Flynn, Lauren Rosenblatt, John Hutchings, Renee Thorne.

Kimberly D. Bose,
Secretary.

[FR Doc. E9-1472 Filed 1-23-09; 8:45 am]

BILLING CODE 6717-01-P